DEPARTMENT OF TRANSPORTATION

Federal Aviation Administration

Finding of No Significant Impact

AGENCY: Federal Aviation Administration (FAA), Department of Transportation (DOT).

ACTION: Environmental Finding Document: Finding No Significant Impact; Notice.

SUMMARY: The Federal Aviation Administration (FAA) prepared an Environmental Assessment (EA) to evaluate the East Kern Airport District (EKAD) proposal to operate a commercial launch facility at the Mojave Airport in Mojave, California. The EA also evaluated the potential environmental impacts of launching two types of horizontally launched suborbital vehicles (Concept A and Concept B) proposed to be launched from the Mojave Airport. XCOR Aerospace is requesting a launch specific license and proposes to conduct up to 10 licensed launches in 2005 and up to 25 licensed launches in 2006 of the Sphinx launch vehicle. This launch vehicle is similar to the Concept B vehicle described and analyzed in the EA. After reviewing and analyzing currently available data and information on existing conditions, project impacts, and measures to mitigate those impacts, the FAA, Office of the Associate Administrator for Commercial Space Transportation (AST) has determined that licensing up to 35 launches of the Sphinx vehicle is not a Federal action that would significantly affect the quality of the human environment within the meaning of the National Environmental Policy Act (NEPA). Therefore the preparation of an Environmental Impact Statement (EIS) is not required and AST is issuing a Finding of No Significant Impact (FONSI). The FAA made this determination in accordance with all applicable environmental laws.

For a Copy of the Environmental Assessment or the FONSI Contact: Ms. Michon Washington, FAA Environmental Specialist, Mojave Airport EA, c/o ICF Consulting, 9300 Lee Highway, Fairfax, VA 22031, or refer to the following Internet address: http://ast.faa.gov.

DATES: The Draft EA was released for public comment on October 31, 2003. In addition, the FAA held a public hearing on December 10, 2003 in Mojave, California to collect comments from the public. All comments received before December 12, 2003 were considered in the preparation of the Final EA.

Proposed Action: Launches of launch vehicles, such as XCOR's proposed launches of the Sphinx vehicle from the Mojave Airport, must be licensed by the FAA pursuant to 49 U.S.C. 70101-70121, formerly the Commercial Space Launch Act. Licensing the launch of a launch vehicle is a Federal action requiring environmental analysis by the FAA in accordance with NEPA of 1969, 42 U.S.C. 4321 et seq. Upon receipt of a complete license application, AST must decide whether to issue a launch license to XCOR for up to 35 launches of the Sphinx launch vehicle from the Mojave Airport. An environmental determination is required for the evaluation of a license application.

The FAA is using the analyses in the Final EA as the basis for the environmental determination of the impacts of these launches to support the licensing decision for the launch of the Sphinx vehicle from the Mojave Airport.

Concept B launch vehicles considered in the EA would use rocket power to take off from a standard aviation runway. This is the same type of operation proposed for operating the Sphinx launch vehicle. The EA considers the overall impacts to the environment of the proposed operations including the launch and landing of Concept B launch vehicles at the Mojave Airport. The EA considered both a small Concept B launch vehicle, which would use approximately 476 kilograms (1,050 pounds) of propellant and a large Concept B launch vehicle, which would use approximately 4,763 kilograms (10,500 pounds) of propellant. The Sphinx vehicle is similar to the small Concept B vehicle described and analyzed in the EA.

The Sphinx vehicle would consist of a single stage rocket power vehicle, powered by an engine fueled by liquid oxygen (LOX) and kerosene. The vehicle would launch horizontally from a runway at Mojave Airport and would likely fly east along a steep ascent trajectory until the propellants are expended. The vehicle would coast unpowered along a parabolic trajectory until reaching apogee. It would then coast down until pullout and glide to an emergency-management area between 10 and 160 kilometers (six and 100 miles) downrange of the Mojave Airport where it may be necessary to conduct a series of maneuvers to expend excess energy before making a descent to the Mojave Airport. Upon reaching the Mojave Airport it may be necessary to conduct additional maneuvers to expend excess energy before performing an unpowered horizontal landing.

In the unlikely event of an emergency landing, the Pilot in Command (PIC) would attempt to reach the primary abort site at the main runway at Edwards Air Force Base. However, any airport within gliding range with a runway at least 1,219 meters (4,000 feet) long would be a candidate for an emergency landing location.

Environmental Impacts

Safety and Health

A hazard analysis is a necessary part of the Mission and Safety Review for the FAA licensing determination to assess the possible hazards associated with proposed ground, flight, and landing operations. Launches of the Sphinx launch vehicle from the Mojave Airport would require launch specific licenses from the FAA and the launch applicant would be required to conduct risk analyses based on the proposed mission profiles. The Mission and Safety Review will consider these analyses and, therefore, they were not discussed in detail in the EA. However, analysis of the safety and health implications of launch related operations and activities that have the potential for environmental impact were considered in the EA.

There would be some vapors of various propellants released from propellant storage/transfer operations through evaporative losses. However, such vapors would be vented outside and at a height that would provide adequate protection for personnel, buildings, and the environment. Also, the total quantity of emissions would not occur as a large acute (short-term) exposure, but would occur as a slow vapor release over a long period of time. There is also the concern of spills of propellants during handling and loading operations and subsequent fire or explosion. However, the Mojave Airport has established practices and procedures to handle the spills and releases of propellants.

Increased road traffic that would result from conducting the proposed launch operations at the Mojave Airport would only add a few cars/trucks above existing traffic loads. However, the increase in the number of shipments of hazardous materials should not significantly increase the number of traffic accidents on the roadways around the Mojave Airport.

On-site work associated with launch operations would be similar to that associated with industrial chemical operations. Exposure to mechanical accidents should not differ significantly from current levels for the Mojave Airport because the number of operations associated with the conduct of launch operations would be relatively small given the number of operations airport wide.

In a catastrophic accident, it would be likely that the crew would be seriously injured or killed. At the Airport, the on-site fire department could respond, secure the site, but would stay clear of the immediate area until the danger of explosion diminishes. It is expected that any fires resulting from a failure could be handled by the fire department. Additional off-site emergency response capability could also be used if necessary.

Air Quality

Air quality impacts associated with Concept B launch operations were examined in terms of air emissions from launch/landing operations and from routine launch preparation operations. The air quality at the Mojave Airport in Eastern Kern County is in Federal non-attainment (serious) and State non-attainment (moderate) for ozone, and non-attainment for PM10 (California standards only). A Federal agency cannot support an action (e.g., fund, license) unless the activity will conform to the Environmental Protection Agency-approved State Implementation Plan for the region. This is called a conformity determination or analysis. A conformity analysis may involve performing air quality modeling and implementing measures to mitigate the air quality impacts. The Federal government is exempt from the requirement to perform a conformity analysis if two conditions are met.

• The ongoing activities do not produce emissions above the de minimis levels specified in the rule.

• The Federal action must not be considered a regionally significant action. A Federal action is considered regionally significant when the total emissions from the action equal or exceed 10 percent of the air quality control area's emissions inventory for any criteria pollutant.

Air analyses indicated that nitrogen oxides (NOX) and volatile organic compound (VOC) emissions are less than 0.01 metric tons (0.01 tons) per year and less than 2.2 metric tons (2.4 tons) per year, respectively. These would not be above the de minimis level of 45.4 metric tons (50 tons) per year. In addition, the total emissions from the proposed action represent less than 0.0001 percent of the area's emissions inventory for NOX and 0.05 percent of the area's emissions inventory for VOC, and therefore, are not regionally significant. Based on these data, there is no need for a Federal conformity analysis, there would be no exceedances of the NAAQS, and therefore no significant impacts to air quality are anticipated.

The air emissions from the Sphinx launch operations would be primarily from the rocket motor. The propellants are LOX and kerosene. Possible emissions would include carbon monoxide (CO), carbon dioxide (CO2), hydrogen (H2), and water (H2O). The only criteria pollutant among these is CO, and Kern County is in attainment for CO.

The analysis considered emissions in two categories, above 914 meters (3,000 feet) and below 914 meters (3,000 feet). The 914 meter (3,000 feet) altitude is an appropriate cutoff because the Federal government uses 914 meters (3,000 feet) and below for contributions of emissions to the ambient air quality and for de minimis calculations.

For 35 flights of the Sphinx vehicle, a total of 3,266 kilograms (7,200 pounds) of CO would be emitted at altitudes below 914 meters (3,000 feet). This would occur over two years and would not exceed the de minimis level of 45.4 metric tons (50 tons) per year; therefore, no Federal conformity analysis would need to be conducted.

Emissions above 914 meters (3,000 feet) were also considered to determine other environmental impacts such as global warming and ozone depletion. Approximately 52,676 kilograms (116,130 pounds) of CO2 would be released from 35 launches of the Sphinx vehicle over the two-year period. In comparison, CO2 emissions in the PEIS for Licensing Launches (DOT, 2001) from commercial launches were estimated to be much greater than for this proposed action (approximately 4,536 metric tons per year (5,000 tons per year)). No significant impact due to global warming or ozone depletion was found in the PEIS for Licensing Launches and, therefore, no significant impact would be expected from launches of the Sphinx launch vehicle.

Emissions would also occur from support equipment used during ground operations. This could include relatively few trucks and equipment; therefore, few emissions would be expected from their use. Air emissions may be generated during fueling the launch vehicle and storage of additional fuels. For flight of the Sphinx vehicle, 345 kilograms (760 pounds) of LOX and 136 kilograms (300 pounds) of kerosene would be needed per flight. This would equal 12,075 kilograms (26,600 pounds) of LOX and 4,760 kilograms (10,500 pounds) of kerosene for 35 flights. This amount represents a relatively small increase in annual propellant usage at the airport and, therefore, the emissions from storage and dispensing as a result of activities related to the proposed launch operations would not be significant.

Airspace

Conducting a maximum of 35 launches of the Sphinx vehicle over a 24-month period would have no significant impacts on airspace. Conducting 10 launches in 2005 would result in a 0.05 percent increase and conducting 25 launches in 2006 would result in a 0.14 percent increase in activity at the Mojave Airport. Established protocols including Letters of Authorization (LOA) would be used with the R-2508 Complex. The Mojave Airport and several of its tenants have LOAs with the R-2508 Complex Control Board and the managers of individual restricted areas within the R-2508 Complex to operate within the various individual restricted areas (including R-2515). Any flights into the R-2508 Complex that are part of the proposed action that would create a significant impact to military activities would be prohibited by the scheduling and controlling agencies. Thus, the proposed action would not result in long-term changes to military operations or training within restricted airspace. There would be a minimal impact on surrounding airspace given the small number of launches.

Biological Resources

The Sphinx launch vehicle would land at a designated runway at the Mojave Airport. The runways are routinely used for take-offs and landings by other aircraft, and no construction activities would be required to support launch operations. Because no development activities are planned, no adverse effects to vegetation, including Joshua trees and creosote scrub, are anticipated.

Launches of the Sphinx would not result in the loss of habitat, conflict with the provisions of any adopted Habitat Conservation Plan, Natural Community Conservation Plan, or other approved local, regional, or state habitat conservation plans. The desert tortoise, which is a U.S. Fish and Wildlife Service federally-listed, threatened wildlife species, has historically occurred throughout the region and has limited potential to occur almost anywhere within the Mojave Specific Plan area. Critical habitat for the desert tortoise has been designated in the region of influence for this proposed action. The FAA initiated informal consultation with the U.S. Fish and Wildlife Service under Section 7 of the Endangered Species Act. After review of potential impacts, the FAA determined and the U.S. Fish and Wildlife Service concurred, that the proposed action is not likely to affect listed species or critical habitat. Launches of Sphinx vehicles would not have a potential for adverse effect on any federally-listed threatened or endangered species.

The breakup of the launch vehicles during a crash and subsequent recovery activities could directly impact biological resources in the region of influence through ground disturbance. Also, if falling debris hit specific species on the ground, those resources would likely be destroyed. However, because it is unlikely that a crash would occur, impacts to biological resources as a result of vehicle crash would not be anticipated.

The launch vehicles may cause sonic booms in the region, which could impact wildlife. Noise levels generated during sonic booms would be short-term and overall predicted noise levels would not exceed ambient noise levels in residential areas. However, there is potential for C-weighted sound exposure levels above the acceptable threshold for ambient conditions, which is 61 dB. The brief sonic boom noise could elicit a short-term startle response in wildlife but no long-term adverse impacts are expected. In general, these noise levels would be significantly less than those produced by existing aircraft in the region and launches would occur infrequently over the course of a year. Therefore, these short-term noise impacts would be less than significant.

Cultural Resources

Because there are no sites listed or eligible for listing on the National Register of Historic Places within the community of Mojave and no construction activities would occur as part of the proposed action, no adverse effects on National Register of Historic Places sites would be anticipated.

The breakup of launch vehicles during a crash and subsequent recovery activities could directly impact cultural resources on the ground. These resources may be located above-or below-ground and may be known or unknown. If falling debris hit specific assets on the ground, those resources would likely be destroyed. Crash cleanup activities could also disturb nearby resources. However, because it is unlikely that a crash would occur, and cultural resources are widely dispersed throughout the region, impacts to a cultural site as a result of a vehicle crash would not be anticipated.

Pursuant to 36 CFR part 800, the FAA requested the views of the California State Historic Preservation Officer (SHPO) on any further actions to identify historic properties or properties that may be listed in the National Register of Historic Places. Per the SHPO's recommendations, the FAA identified information on historic properties that are listed or are eligible for listing on the National Register of Historic Places. Based on the FAA's review of the proposed action under Section 106 of the National Historic Preservation Act, the FAA determined that the project would have no adverse effect on historic properties. The SHPO concurred with the FAA's determination and consultation concluded.

Geology and Soils

Launches of the Sphinx vehicle would have less than significant or no impact on soils. In terms of ground clouds from the combustion of propellants, Sphinx would create a ground cloud that would disperse as the vehicle moves along the runway. Additionally, the Sphinx vehicle would use liquid propellants, which create a ground cloud with fewer impacts to soils than solid propellant motors. Therefore, no significant impacts would be expected to soils.

There would be no loss of known mineral resources or availability of a locally important mineral resource recovery site identified in a land use plan. There would be no impact on existing seismic risk, including rupture of a ground fault, ground shaking and ground failure, including liquefaction. There would be no impact on existing landslide and erosion risk.

Hazardous Materials and Hazardous Waste Management

For the Sphinx vehicle, the primary hazardous materials used would be propellants. The propellants used are relatively inert and would be stored at the Mojave Airport. In addition to propellants, it is anticipated that minor amounts of other hazardous materials, such as paint, oils and lubricants, and solvents, would be used. All propellants and other hazardous materials would be stored and used in compliance with the regulations applicable to their storage and use, and already in place at Mojave Airport. No adverse impacts would be anticipated from these additional hazardous materials.

The Sphinx vehicle would use LOX and kerosene as propellants. Kerosene is interchangeable with Jet Fuel, which is already used without adverse impact at the Mojave Airport. LOX would be stored in dewars (large cooled pressurized containers, with insulation to ensure that oxygen remains in liquid form).

If additional storage capacity is required to support Sphinx operations, tank trucks with the capacity to hold 28,123 kilograms (62,000 pounds) or 34,826 liters (9,200 gallons) could be used as short-term temporary storage. The proposed tanks trucks would be parked between existing buildings on the Mojave Airport within a fenced area and would meet all established explosive quantity distance safety requirements. Overall, there would be no significant Hazardous Materials and Hazardous Waste Management impacts anticipated from the launch of Sphinx launch vehicles from the Mojave Airport.

Land Use

No significant impacts to land uses would occur either at the Mojave Airport or within the region of influence as a result of the proposed action. No farmlands or agricultural use lands are located on the Mojave Airport. No prime farmland, unique farmland, farmland of state importance, or general farmland either at the Mojave Airport or within the region of influence would be converted to a non-agricultural use as a result of the proposed action. No conflicts with existing agricultural uses or Williamson contracts would occur as a result of the proposed action. No parks or recreational facilities are located on the Mojave Airport. The launch of the Sphinx vehicle from the Mojave Airport would not change the existing land use and would not impact the preservation of the natural beauty of the countryside, public parks, recreation lands, wildlife and waterfowl refuges, or historic sites as specified in Section 4(f) of the U.S. Department of Transportation Act of 1966.

Noise

Sphinx vehicle flight procedures would occupy the Mojave Airport for four minutes during launch and four minutes during landing. Because landings of these vehicles would be unpowered, noise levels for the landing of the launch vehicle would be insignificant and were not considered in the noise analysis. The amount of noise produced by an engine is related to several factors including the thrust produced by the engine. The F-4 jet aircraft with afterburners used at the Mojave Airport has a thrust of 79,623 Newtons (17,900 pounds); this corresponds to a maximum A-weighted sound level of 109.7 at a distance of 305 meters (1,000 feet). Concept B launch vehicles were assumed to have a maximum thrust of 8,010 Newtons (1,800 pounds), which is significantly lower than the thrust of the F-4 jets currently flown at the airport. It is therefore anticipated that the noise levels produced by the launch of the Sphinx launch vehicle would be lower than the noise levels produced by aircraft already in use at the Mojave Airport. Because the Mojave Airport currently experiences high intensity noise levels due to military jet flights and stationary rocket testing, and because the additional high intensity noise level would be insignificant, impacts to noise levels during launches at the Mojave Airport would be insignificant.

A DoD study has shown the noise effects of ten daytime sonic booms at an overpressure of 47.88 Newtons per square meter (1 pound per square foot) everyday for a year would yield an outdoor accumulated noise level equal to an Ldn of 65 dBA. This study result can be used to define the maximum allowance for the number of daytime sonic boom events per day (10 events per day) to reach the Ldn 65 dBA noise standard limit. This assumes the estimated sonic boom overpressure is within the same order of magnitude, 47.88 Newtons per square meter (1 pound per square foot), as those to be generated by the vehicle.

Socioeconomic Impacts and Environmental Justice

The proposed action would not be expected to displace people or decrease the population in the community of Mojave and, therefore, no impacts to population are expected from the proposed action. The proposed action would not result in any jobs being eliminated at the Mojave Airport and, therefore, no impacts to employment are expected from the proposed action. The proposed action would not result in the elimination of any jobs and, therefore, would not have any negative impacts on the community of Mojave. Any increase in the number of people accessing Mojave as a result of the proposed action would be limited to launch participants and launch spectators. The proposed action would not displace people from their existing housing or bring an influx of people to the region to seek housing thereby necessitating the construction of housing elsewhere. There would not be a large influx of workers to the Mojave Airport; under normal launch and landing procedures, additional on- or off-site public or emergency services, including firefighters, security, or medical services would not be required.

Noise levels from the Sphinx vehicle would be significantly less than those experienced from existing vehicles in the region and would occur infrequently over the course of a year. Therefore, no impacts to environmental justice communities are expected from the proposed action.

Transportation

Launches of the Sphinx vehicle would be expected to add 30 surface passenger vehicles in 2005 and 75 surface passenger vehicles in 2006 (assuming 3 cars per each launch). Existing access roads could easily handle this level of passenger vehicle traffic.

Under the proposed action, additional propellants would be delivered to the Mojave Airport to support flights of the Sphinx vehicle. For flight of the Sphinx vehicle, approximately 340 kilograms (750 pounds) of LOX and 136 kilograms (300 pounds) of kerosene would be needed per flight. Each kerosene truck would carry 28,123 kilograms (62,000 pounds) and each LOX truck would carry 17,418 kilograms (38,400 pounds). One kerosene truck and one LOX truck would be needed to deliver the required propellants for 35 launches of the Sphinx launch vehicle. The Mojave Airport estimates that there are currently 264 propellant truck deliveries annually. Therefore, there would be no additional congestion or decline in level of service from the addition of delivery trucks for Sphinx launches.

Visual and Aesthetic Resources

The proposed action would have no significant visual impacts. The Sphinx launch vehicle would resemble traditional airplanes while in flight, and the visual landscape already includes airplanes in flight. The launch vehicles would leave visible contrails, but they would be similar in visual impact to contrails from existing operations. Because this area is already used for takeoffs and landings of airplanes, the visual sensitivity is low. The proposed action would not substantially degrade the existing visual character or quality of the site and its surroundings and would have no adverse effect on a scenic vista or scenic resources, as there are none in the area.

Water Resources

No significant impacts to on- or off-site water resources would occur as a result of the proposed action. Because no construction or expansion to existing on- or off-site facilities would occur, the proposed action would not cause impacts to existing drainage patterns that would result in increased erosion, siltation, or off-site flooding.

No significant increases in the need for utilities and service systems in the Community of Mojave would occur due to the proposed action. Utilities and service systems in the region of influence outside of the Mojave community would not be impacted by the proposed action. In the case of a catastrophic event, debris and wreckage from the launch vehicles could impact utilities or their infrastructure. However, because of the small size of the launch vehicle, the low probability of a catastrophic accident, and the extensive emergency response and clean-up procedures in place at the airport, the impacts would be insignificant.

Cumulative Impacts

The proposed action would not exceed de minimis levels for criteria pollutants and the percent of the air quality control areas emissions inventory for any criteria pollutant. There would be no emissions that directly affect ozone depletion. No significant cumulative impacts to air quality are expected.

Because of the volume of air traffic that utilizes this area already and the structured scheduling procedures in place for joint-use of the R-2508 Complex, the proposed action would have no significant cumulative effects on airspace.

In the EA for the Orbital Reentry Corridor for Generic Unmanned Lifting Entry Vehicle Landing at Edwards AFB, the USAF considered up to 12 flights per year. Currently an average of two military jet aircraft take off and/or land at the Mojave Airport per day. These military aircraft can produce sonic booms. Even in the worst case scenario, i.e., one launch from the Mojave Airport, one launch of the proposed Unmanned Lifting Entry Vehicle from Edwards AFB, and two jet aircraft take offs or landings from the Mojave Airport, there would not be more than 10 sonic booms generated per day in the region of influence. Therefore, there would be no significant cumulative impacts to noise from the proposed action.

No significant cumulative impacts to biological, cultural, land use, socioeconomics, environmental justice, transportation, geologic, mineral, visual and aesthetic, or water resources would occur as a result of the proposed action. No significant cumulative impacts would result from hazardous materials or hazardous waste used or produced as a result of the proposed action.

Detailed analyses of safety and related issues will be addressed in the FAA's Mission and Safety Review prior to issuing a launch license. However, safety and health analyses of operations that have the potential for environmental impact were considered in the EA and were determined to have no significant cumulative impacts on the environment.

Although the proposed action would support and facilitate limited growth, it would not induce growth. Additionally, there would be no specific future development activities currently known that would be dependent on the proposed action. Therefore no secondary impacts are expected to result from the proposed action.

No Action Alternative

Under the no action alternative, the FAA would not issue a launch license to XCOR for up to 35 launches of the Sphinx launch vehicle from the Mojave Airport. XCOR could continue to conduct aviation-related activities that do not require a launch license. The predicted environmental effects of the proposed action would not occur. The existing on- and off-site conditions at the Mojave Airport would remain unchanged.

Determination

An analysis of the proposed action has concluded that there are no significant short-term or long-term effects to the environment or surrounding populations. After careful and thorough consideration of the facts contained herein, the undersigned finds that the proposed Federal action is consistent with existing national environmental policies and objectives as set forth in Section 101 of NEPA and other applicable environmental requirements and will not significantly affect the quality of the human environment or otherwise include any condition requiring consultation pursuant to Section 102(2)(C)of NEPA.

Dated: April 19, 2004.
Patricia Grace Smith,
Associate Administrator for Commercial Space Transportation.

[FR Doc. 04-9393 Filed 4-23-04; 8:45 am]

BILLING CODE 4910-13-P